ENVIRONMENTAL PROTECTION AGENCY

[OPP EPA-HQ-OPPT-2002-0001; FRL-8093-2]

National Pollution Prevention and Toxics Advisory Committee; Notice of Public Meeting

AGENCY: Environmental Protection Agency (EPA).

ACTION: Notice.

SUMMARY: Under the Federal Advisory Committee Act (FACA), 5 U.S. App.2 (Public Law 92-463), EPA gives notice of a 2-day meeting of the National Pollution Prevention and Toxics Advisory Committee (NPPTAC). The purpose of the meeting is to provide advice and recommendations to EPA regarding the overall policy and operations of the programs of the Office of Pollution Prevention and Toxics (OPPT).

DATES: The meeting will be held on October 4, 2006 from 8:30 a.m. to 5:30 p.m., and October 5, 2006 from 10:15 a.m. to 1 p.m.

Registration to attend the meeting identified by docket identification (ID) number EPA-HQ-OPPT-2002-0001, must be received on or before September 25, 2006. Registration will also be accepted at the meeting.

Request to provide oral and/or written comments at the meeting, identified as (NPPTAC) October 2006 meeting, must be received in writing on or before September 25, 2006.

Request to participate in the meeting, identified by docket ID number EPA-HQ-OPPT-2002-0001, must be received on or before September 25, 2006.

For information on access or services for individuals with disabilities, please contact John Alter at (202) 564-9891 or npptac.oppt@epa.gov. To request accommodation of a disability, please contact John Alter, preferably at least 10 days prior to the meeting, to give EPA as much time as possible to process your request.

Meetings of the Committee Work Groups will take place as follows. The Pollution Prevention (P2) Work Group will meet on October 2, 2006 from 2:30 p.m. to 5:30 p.m. and on October 3, 2006 from 8:30 a.m. to 11:30 a.m., to discuss activities related to EPA's Pollution Prevention Programs. The Information Integration and Data Use Work Group will meet on October 3, 2006 from 8:30 a.m to 11:30 a.m. The Government Accountability Office (GAO) Reports Interim Work Group will also meet on October 3, 2006 from 12:30 p.m. to 5:30 p.m.

ADDRESS: The meeting will be held at the Crowne Plaza National Airport Hotel, located at 1480 Crystal Drive, Arlington, Virginia.

Requests to participate in the meeting may be submitted to the technical person listed under FOR FURTHER INFORMATION CONTACT.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: John Alter, (7408), Office of Pollution Prevention and Toxics, Environmental Protection Agency, 1200 Pennsylvania Ave., NW., Washington, DC 20460-0001; telephone number: (202) 564-9891; e-mail address: npptac.oppt@epa.gov.

SUPPLEMENTARY INFORMATION:

I. General Information

A. Does this Action Apply to Me?

This action is directed to the public in general, and may be of particular interest to those persons who have an interest in or may be required to manage pollution prevention and toxic chemical programs, individual groups concerned with environmental justice, children's health, or animal welfare, as they relate to OPPT's programs under the Toxic Substances Control Act (TSCA) and the Pollution Prevention Act (PPA). Since other entities may also be interested, the Agency has not attempted to describe all the specific entities that may be interested in the activities of the NPPTAC. If you have any questions regarding the applicability of this action to a particular entity, consult the person listed under FOR FURTHER INFORMATION CONTACT.

B. How Can I Get Copies of this Document and Other Related Information?

1. Docket: EPA has established an official public docket for this action under docket ID number EPA-HQ-OPPT-2002ndash;0001. Publicly available docket materials are available electronically at http://www.regulations.gov or in hard copy at the OPPT Docket, EPA Docket Center (EPA/DC), EPA West, Room B102,1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may access this Federal Register document electronically through the EPA Internet under the “Federal Register” listings at http://www.epa.gov/fedrgstr.

C. How and to Whom Do I Submit Comments?

You may submit comments electronically, by mail, or through hand delivery/courier. To ensure proper receipt by EPA, identify the appropriate docket ID number EPA-HQ-OPPT-2002-0001, include NPPTAC October 2006 Meeting in the subject line on the first page of your comment.

1. By mail: OPPT Document Control Office, Environmental Protection Agency, (7407M), 1200 Pennsylvania Avenue, NW, Washington, DC 20460--0001.

2. Electronically: At http://www.regulations.gov. Follow the on-line instructions for submitting comments.

3. Hand delivery/courier: OPPT Document Control Office in EPA East Bldg., Rm. M64 28, 1201 Constitution Ave., NW., Washington DC.

II. Background

The proposed agenda for the NPPTAC meeting includes: Pollution Prevention, Risk Assessment; Risk Management; Risk Communication; Information Integration and Data Use; The Government Accountability Office (GAO) Reports; Tribal Lifeways; and NPPTAC Future Planning. The meeting is open to the public.

III. How Can I Request to Participate in this Meeting?

You may submit a request to participate in this meeting to the technical person listed under FOR FURTHER INFORMATION CONTACT. Do not submit any information in your request that is considered CBI. Requests to participate in the meeting, identified by docket ID number EPA-HQ-OPPT-2002-0001, must be received on or before September 25, 2006.

For information on access, or services for individuals with disabilities, please contact John Alter at (202) 564-9891 or e-mail npptac.oppt@epa.gov. To request accommodation of a disability, please contact John Alter, preferably at least 10 days prior to the meeting, to give EPA as much time as possible to process your request.

List of Subjects

Environmental protection, NPPTAC, Pollution prevention, toxics, Toxic chemicals, and Chemical health and safety.

Dated: September 8, 2006.
Ann E. Goode,
Acting Director, Office of Pollution Prevention and Toxics

[FR Doc. E6-15339 Filed 9-14-06; 8:45 am]

BILLING CODE 6560-50-S